DEPARTMENT OF THE INTERIOR

National Indian Gaming

Commission Fee Rate and Fingerprint Fees

AGENCY: National Indian Gaming Commission, Interior.

ACTION: Notice.

SUMMARY: Notice is hereby given that the National Indian Gaming Commission has adopted its annual fee rates of 0.00% for tier 1 and 0.08% (.0008) for tier 2, which maintain the current fee rates. These rates shall apply to all assessable gross revenues from each gaming operation under the jurisdiction of the Commission. If a tribe has a certificate of self-regulation, the fee rate on Class II revenues shall be 0.04% (.0004) which is one-half of the annual fee rate. The annual fee rates are effective November 1, 2024, and will remain in effect until new rates are adopted. The National Indian Gaming Commission has also adopted its fingerprint processing fee of $44 per card which represents a decrease of $9 per card. The fingerprint processing fee is effective November 1, 2024, and will remain in effect until the Commission adopts a new rate.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR part 514) provide for a system of fee assessment and payment that is self-administered by gaming operations.

Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission. It is necessary for the Commission to maintain the fee rate to ensure that the agency has sufficient funding to fully meet its statutory and regulatory responsibilities. In addition, it is critical for the Commission to maintain constantly an adequate transition carryover balance to cover any cash flow variations.

Pursuant to 25 CFR part 514, the Commission must also review annually the costs involved in processing fingerprint cards and set a fee based on fees charged by the Federal Bureau of Investigation and costs incurred by the Commission. Commission costs include Commission personnel, supplies, equipment & infrastructure costs, and postage to submit the results to the requesting tribe. The decrease in FY25 fingerprint processing fee is attributable largely to the completion of the Agency's hardware refresh of core networking and server computing devices in FY24 which has reduced the support time for on-premises systems and infrastructure supporting fingerprint processing. In addition, the successful establishment of the CJIS Audit Unit (CAU) within the Division of Technology has significantly decreased the cross-divisional resources previously required to ensure compliance with the Federal Bureau of Investigation Criminal Justice Information Services (FBI CJIS) requirements. FY25 fingerprint processing fee's decrease also reflects the cost savings resulting from the completion of one-time capital investments associated with the Washington, DC headquarters office relocation in FY24. In FY25 the Commission will also continue its commitment to take necessary measures to comply with the FBI CJIS requirements which ensure the NIGC and participating tribes can continue to use FBI criminal history report information (CHRI) to assist in determining a key employee or primary management official's eligibility for a gaming license.

Dated: October 23, 2024.
Sharon M. Avery,
Acting Chair.
Dated: October 23, 2024.
Jean Hovland,
Vice Chair.

[FR Doc. 2024-24968 Filed 10-25-24; 8:45 am]

BILLING CODE 7565-01-P